DEPARTMENT OF HEALTH AND HUMAN SERVICES

Centers for Disease Control and Prevention

[Program Announcement 01083]

Grant To Build Research Capacity in the Area of Behavioral Disorders and Youth Violence Notice of Availability of Funds

A. Purpose

The Centers for Disease Control and Prevention (CDC) announces the availability of fiscal year (FY) 2001 funds for a grant program to build research capacity in the area of behavioral disorders and youth violence. This program addresses the “Healthy People 2010” focus area of Violence and Abuse Prevention. The purpose of the program is to build capacity for further research that will discover new approaches to intervene and prevent complex behavior problems in children and youth resulting from genetic and environmental conditions in early childhood that significantly impact the problem of youth violence.

B. Eligible Applicants

Assistance will be provided only to the Kennedy Krieger Institute. No other applications are solicited.

Eligibility is limited only to the Kennedy Krieger Institute because fiscal year 2001 Federal Appropriations specifically directs CDC to award this non-profit institute funds to develop new approaches to help prevent youth violence and behavioral problems.

C. Availability of Funds

Approximately $810,288 is available in FY 2001 to fund this award. It is expected that the award will begin on or about September 1, 2001, and will be made for 12-month budget period within a project period of one year. Funding estimates may change.

D. Where to Obtain Additional Information

This and all other CDC Announcements may be found and downloaded from the CDC homepage. Internet address: http://www.cdc.gov Click on “Funding” then “Grants and Cooperative Agreements”.

To obtain business management technical assistance, contact: Ty Weaver, Grants Management Specialist, Grants Management Branch, Procurement and Grants Office, Announcement 01083, Centers for Disease Control and Prevention (CDC),2920 Brandywine Road, Suite 3000, Mailstop E13,Atlanta, GA 30341-4146,Telephone: (770) 488-2710,E-Mail address: tmw9@cdc.gov.

For program technical assistance, please contact: John Hemphill, Project Officer, National Center for Injury Prevention and Control, Centers for Disease Control and Prevention (CDC), 4770 Buford Highway, NE., Mailstop K-60, Atlanta, GA 30341-3724, Telephone: (770) 488-1285, E-Mail address: jhemphill@cdc.gov.

Dated: May 1, 2001.
John L. Williams,
Director, Procurement and Grants Office, Centers for Disease Control and Prevention (CDC).

[FR Doc. 01-11374 Filed 5-4-01; 8:45 am]

BILLING CODE 4163-18-P